DEPARTMENT OF ENERGY

[Certification Notice—211]

Office of Fossil Energy; Notice of Filings of Coal Capability Powerplant and Industrial Fuel Use Act

AGENCY: Office of Fossil Energy, DOE.

ACTION: Notice of filings.

SUMMARY: The owners/operators of thirteen baseload electric powerplants have submitted coal capability self-certifications pursuant to section 201 of the Powerplant and Industrial Fuel Use Act of 1978 (FUA) and Department of Energy (DOE) regulations in 10 CFR 501.60.61.

ADDRESSES: Copies of self-certification filings are available for public inspection, upon request, in the Office of Coal & Power Import/Export, Fossil Energy, Room 4G-039, FE-27, Forrestal Building, 1000 Independence Avenue, SW., Washington, DC 20585.

FOR FURTHER INFORMATION CONTACT: Ellen Russell at (202) 586-9624.

SUPPLEMENTARY INFORMATION: Title II of FUA, as amended (42 U.S.C. 8301 et seq.), provides that no new baseload electric powerplants may be constructed or operated without the capability to use coal or another alternate fuel as a primary energy source pursuant to FUA section 201(d), in order to meet the requirement of coal capability, the owner or operator of such facilities proposing to use natural gas or petroleum as its primary energy source shall certify to the Secretary of Energy (Secretary) prior to construction, or prior to operation as a base load electric powerplant, that such powerplant has the capability to use coal or another alternate fuel. Such certification establishes compliance with FUA section 201(a) as of the date filed with the Secretary. The Secretary is required to publish a notice in the Federal Register that a certification has been filed. The following owners/operators of proposed new baseload electric powerplants have filed self-certifications pursuant to FUA section 201(d) and in accordance with DOE regulations in 10 CFR 501.60, 61.

Owner operator | Capacity | Plant location | In-service date
Deer Park Energy Center, L.P | 950 MW | Deer Park, TX | Jan. 2003.
Riverside Energy Center, LLC | 600 MW | Beloit, WI | June 2004.
Riverview Energy Center, LLC | 45 MW | Pleasanton, CA | 1st Qtr. 2003.
Reliant Energy Bighorn, LLC | 580 MW | Primm, NV | June 27, 2003
Brookhaven Energy, L.P | 540 MW | Brookhaven, NY | 1st Qtr. 2006.
Plymouth Energy LLC | 307 MW | Plymouth, WA | Dec. 2006.
South Carolina Electric & Gas Co. | 875 MW | Jasper County, S.C. | May 1, 2004.
Interstate Power & Light Co. | 565 MW | Cerro Gordo Cty, Iowa | June 2004.
Cottonwood Energy Company L.P | 1220 MW | Deweyville, TX | July 10, 2003.
PacifiCorp—Generation | 525 MW | Mona, Utah | June 2005.
Rocky Moutain Energy Ctr, LLC | 480 MW | Keenesburg, CO | June 2004.
Fox Energy Company LLC | 235 MW | Kaukauna, WI | June 2005.
MEP Pleasant Hill, LLC | 585 MW | Pleasant Hill, MI | Feb. 27, 2002.

Issued in Washington, DC, on April 28, 2004.
Anthony J. Como,
Deputy Director, Electric Power Regulation, Office of Coal & Power Import/Export, Office of Coal & Power Systems, Office of Fossil Energy.

[FR Doc. 04-10065 Filed 5-3-04; 8:45 am]

BILLING CODE 6450-01-P